DEPARTMENT OF COMMERCE

Foreign-Trade Zones Board

[Docket 14-2001]

Foreign-Trade Zone 126—Sparks, Nevada Application for Subzone Taiyo America, Inc. (Electronic Chemicals) Carson City, NV

An application has been submitted to the Foreign-Trade Zones Board (the Board) by the Economic Development Authority of Western Nevada, grantee of FTZ 126, requesting special-purpose subzone status for the manufacturing and warehousing facilities of Taiyo America, Inc. (Taiyo), located in Carson City, Nevada. The application was submitted pursuant to the provisions of the Foreign-Trade Zones Act, as amended (19 U.S.C. 81a-81u), and the regulations of the Board (15 CFR part 400). It was formally filed on March 2, 2001.

The Taiyo facility (38 employees, 4.2 acres) is located at 2675 Antler Drive, Carson City, Nevada. The Taiyo facility is used for the manufacturing, testing, packaging and warehousing of solder mask (HTS 3208.90 and 3215.90, duty rate ranges from 1.8% to 3.2%), which is used in the production of printed circuit boards. Components and materials sourced from abroad (representing about 50% of all parts consumed in manufacturing) include: quartz, bentonite clay, natural steatite, barium sulfates, calcium carbonates, ketones and quinones, esters of acrylic acid, acyclic polyamines, dicyandiamide, aromatic sulphur compound, ethylene thiourea, melamine, carbon, phenothiazine, acrylic polymers, epoxy resins, and silicones (HTS 2506, 2508, 2526, 2811, 2833, 2836, 2914, 2916, 2921, 2926, 2930, 2933, 2934, 3802, 3906, 3907, 3909 and 3910, duty rate ranges from duty free to 9.4%+$.11/kg).

FTZ procedures would exempt Taiyo from Customs duty payments on the foreign components used in export production. Some 14 percent of the plant's shipments are exported. On its domestic sales, Taiyo would be able to choose the duty rates during Customs entry procedures that apply to finished solder masks (1.8 -3.2%) for the foreign inputs noted above. The request indicates that the savings from FTZ procedures would help improve the plant's international competitiveness.

In accordance with the Board's regulations, a member of the FTZ staff has been appointed examiner to investigate the application and report to the Board.

Public comment on the application is invited from interested parties. Submissions (original and 3 copies) shall be addressed to the Board's Executive Secretary at the address below. The closing period for their receipt is May 8, 2001. Rebuttal comments in response to material submitted during the foregoing period may be submitted during the subsequent 15-day period (to May 23, 2001).

A copy of the application and the accompanying exhibits will be available for public inspection at each of the following locations:

U.S. Export Assistance Center, 1755 East Plumb Lane, Room 152, Reno, NV 89502.

Office of the Executive Secretary, Foreign-Trade Zones Board, Room 3716, U.S. Department of Commerce, 14th and Pennsylvania Avenue, N.W., Washington, D.C. 20230.

Dated: March 2, 2001.
Dennis Puccinelli,
Executive Secretary.

[FR Doc. 01-5918 Filed 3-8-01; 8:45 am]

BILLING CODE 3510-DS-P